DEPARTMENT OF AGRICULTURE

Forest Service

Comprehensive River Management Plan for Black Butte Wild and Scenic River, Including Portions of Cold Creek, Mendocino National Forest, Mendocino County, California

AGENCY: Forest Service, USDA.

ACTION: Notice of availability.

SUMMARY: In accordance with Section 3(d)(1) of the Wild and Scenic Rivers Act, the USDA Forest Service announces the completion and availability of the comprehensive river management plan for Black Butte Wild and Scenic River, including portions of Cold Creek. On May 11, 2018, Acting Mendocino Forest Supervisor, Gar Abbas signed a decision notice to adopt a comprehensive river management plan (“CRMP”) for Black Butte Wild and Scenic River (including Cold Creek). The Black Butte Wild and Scenic River CRMP (including Cold Creek) addresses resource protection, development of lands and facilities, user capacities, and other management practices necessary or desirable to achieve the purposes of the Wild and Scenic Rivers Act. This CRMP was prepared after consultation with State and local governments and the interested public. An environmental assessment (EA) was prepared as part of the CRMP development. This EA has been prepared in compliance with the National Environmental Policy Act and other relevant federal laws and regulations. The EA discloses the direct, indirect, and cumulative environmental effects that would result from adopting the CRMP.

The Black Butte Wild and Scenic River CRMP (including Cold Creek) and the EA are available for review at https://www.fs.usda.gov/project/?project=50351 and the following offices: Upper Lake Ranger District, 10025 Elk Mountain Road, Upper Lake, CA 95484. Mendocino National Forest Supervisor's Office, 825 N Humboldt Ave., Willows, CA 95988.

FOR FURTHER INFORMATION CONTACT: Information may be obtained by contacting Hilda Kwan, District Hydrologist, Mendocino National Forest, 10025 Elk Mountain Road, Upper Lake, CA 95484, 707-275-1413, or at hkwan@fs.fed.us.

Dated: July 30, 2018.
Chris French,
Associate Deputy Chief, National Forest System.

[FR Doc. 2018-17839 Filed 8-17-18; 8:45 am]

BILLING CODE 3411-15-P